DEPARTMENT OF VETERANS AFFAIRS

[OMB Control No. 2900-0161]

Agency Information Collection (Medical Expense Report, VA Form 21P-8416) Activity Under OMB Review

AGENCY: Veterans Benefits Administration, Department of Veterans Affairs.

ACTION: Notice.

SUMMARY: In compliance with the Paperwork Reduction Act (PRA) of 1995 (44 U.S.C. 3501-3521), this notice announces that the Veterans Benefits Administration (VBA), Department of Veterans Affairs, will submit the collection of information abstracted below to the Office of Management and Budget (OMB) for review and comment. The PRA submission describes the nature of the information collection and its expected cost and burden; it includes the actual data collection instrument.

DATES: Comments must be submitted on or before October 3, 2016.

ADDRESSES: Submit written comments on the collection of information through www.Regulations.gov, or to Office of Information and Regulatory Affairs, Office of Management and Budget, Attn: VA Desk Officer; 725 17th St. NW., Washington, DC 20503 or sent through electronic mail to oira_submission@omb.eop.gov. Please refer to “OMB Control No. 2900-0161” in any correspondence.

FOR FURTHER INFORMATION CONTACT: Cynthia Harvey-Pryor, Enterprise Records Service (005R1B), Department of Veterans Affairs, 810 Vermont Avenue NW., Washington, DC 20420, (202) 461-5870 or email cynthia.harvey-pryor@va.gov. Please refer to “OMB Control No. 2900-0161.”

SUPPLEMENTARY INFORMATION: Title: Medical Expense Report.

OMB Control Number: 2900-0161.

Type of Review: Revision of a Currently Approved Collection.

Abstract: The Department of Veterans Affairs (VA), through its Veterans Benefits Administration (VBA), administers an integrated program of benefits and services established by law for veterans, service personnel, and their dependents and/or beneficiaries. Information is requested on VA Form 21P-8416 under the authority of 38 U.S.C. 1503(a)(8) regarding exceptions to countable income for needs-based benefits, specifically an amount equal to amounts paid by a claimant or beneficiary for unreimbursed medical expenses.

VA Form 21P-8416 is used by claimants and beneficiaries to report unreimbursed medical expenses for the purpose of reducing their countable income associated with needs-based benefit programs such as VA Pension and Parents' Dependency and Indemnity Compensation (DIC). Unreimbursed medical expenses are deducted from otherwise countable income to determine eligibility for income-based benefits and the rate payable.

An agency may not conduct or sponsor, and a person is not required to respond to a collection of information unless it displays a currently valid OMB control number. The Federal Register Notice with a 60-day period soliciting comments on this collection of information was published at 81 FR 32387 on May 23, 2016.

Affected Public: Individuals or households.

Estimated Annual Burden: 48,200 hours.

Estimated Average Burden per Respondent: 30 minutes.

Frequency of Response: One-time.

Estimated Number of Respondents: 96,400 respondents.

By direction of the Secretary.
Cynthia Harvey-Pryor,
Program Specialist, Office of Privacy & Records Management, Department of Veterans Affairs.

[FR Doc. 2016-21032 Filed 8-31-16; 8:45 am]

BILLING CODE 8320-01-P